DEPARTMENT OF JUSTICE

Antitrust Division

Notice Pursuant to the National Cooperative Research and Production Act of 1993—Energistics Consortium, Inc.

Notice is hereby given that, on June 11, 2010, pursuant to section 6(a) of the National Cooperative Research and Production Act of 1993, 15 U.S.C. 4301 et seq. (“the Act”), Energistics Consortium, Inc. (“Energistics”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is Energistics Consortium, Inc., Sugar Land, TX. The nature and scope of Energistics's standards development activities are the facilitation of a neutral collaboration environment and an inclusive user community for the development, deployment, and maintenance of freely-available, standards-based, collaborative technologies which deliver technological, computing, data management, and process solutions to the upstream oil and natural gas industry.

Patricia A. Brink,
Deputy Director of Operations, Antitrust Division.

[FR Doc. 2010-18748 Filed 7-30-10; 8:45 am]

BILLING CODE 4410-11-M